DEPARTMENT OF ENERGY

Federal Energy Regulatory Commission

[Docket No. CP00-89-000]

Koch Gateway Pipeline Company; Notice of Request Under Blanket Authorization

February 17, 2000.

Take notice that on February 11, 2000, Koch Gateway Pipeline Company (Koch Gateway), PO Box 1478, Houston, Texas 77251-1478, filed in Docket No. CP00-89-000 a request pursuant to Sections 157.205 and 157.216 of the Commission's Regulations under the Natural Gas Act (18 CFR 157.205, 157.216) for authorization to abandon in place by sale to Koch Midstream Services Company (Midstream), a Texas intrastate pipeline company, various natural gas gathering pipelines and associated compression, taps, laterals, metering stations, and appurtenant facilities, under Koch Gateway's blanket certificate issued in Docket No. CP82-430, pursuant to Section 7 of the Natural Gas Act, all as more fully set forth in the request that is on file with the Commission and open to public inspection. This filing may be viewed on the web at http://www.ferc.fed.us/online/rims.htm (call 202-208-2222 for assistance).

Koch Gateway states that these gathering facilities are located in the east Texas counties of Rusk and Gregg and are classified and functionalized as natural gas gathering and operate as gathering laterals connecting producing wells in the Henderson and Willow Springs producing areas to Koch Gateway. Koch Gateway states the continued operation and maintenance of the gathering facilities by Koch Gateway is no longer justified as a part of Koch Gateway's interstate pipeline system. Koch Gateway avers that these facilities are no longer part of Koch Gateway's core pipeline assets, and Koch Gateway currently has no plans to expand its natural gas gathering services in the Henderson and Willow Springs areas. Koch Gateway states that upon approval of the requested abandonment, and the closing of the sale of the gathering facilities, the facilities that will be interconnected with the existing intrastate pipeline system of Midstream Koch Gateway states that all of Koch Gateway's customers who have utilized the gathering facilities between and including January 1999 and December 1999 has accepted an equivalent offer from the parties and has consented to the proposed abandonment. The contact person for this filing is Kyle Stephens, Director of Certificates, Koch Gateway Pipeline Company, PO Box 1478, Houston, Texas, 77251-1478, (713) 544-7309.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. if a protest is filed and not withdrawn within 30 days after the time allowed for filing a protest, the instant request shall be treated as an application for authorization pursuant to Section 7 of the Natural Gas Act.

David P. Boergers,
Secretary.

[FR Doc. 00-4322 Filed 2-23-00; 8:45 am]

BILLING CODE 6717-01-M